DEPARTMENT OF TRANSPORTATION

Federal Aviation Administration

14 CFR Parts 117, 119, and 121

[Docket No. FAA-2009-1093; Amdt. Nos. 117-1, 119-16, 121-357]

RIN 2120-AJ58

Flightcrew Member Duty and Rest Requirements; Technical Correction

AGENCY: Federal Aviation Administration, DOT.

ACTION: Final rule; technical correction.

SUMMARY: The FAA is correcting the final flightcrew member duty and rest rule published on January 4, 2012. In that rule, the FAA amended its existing flight, duty and rest regulations applicable to certificate holders and their flightcrew members operating certain domestic, flag, and supplemental operations. This document corrects several issues requiring a technical correction in the codified text of the final flightcrew member duty and rest rule.

DATES: Effective January 14, 2014.

FOR FURTHER INFORMATION CONTACT: For technical questions concerning this action, contact Dale E. Roberts, AFS-200, Flight Standards Service, Air Transportation Division Federal Aviation Administration, 800 Independence Avenue SW., Washington, DC 20591; telephone (202) 267-5749; email: dale.e.roberts@faa.gov.

For legal questions concerning this action, contact Alex Zektser, AGC-220, Office of Chief Counsel, Regulations Division, Federal Aviation Administration, 800 Independence Avenue SW., Washington, DC 20591; telephone (202) 267-3073; email: alex.zektser@faa.gov.

SUPPLEMENTARY INFORMATION:

Background

On January 4, 2012, the FAA published a final rule entitled “Flightcrew Member Duty and Rest Requirements” (77 FR 330). In that rule, the FAA created a new part, part 117, which replaced the then-existing flight, duty, and rest regulations for part 121 passenger operations. As part of this rulemaking, the FAA also applied the new part 117 to certain part 91 operations, and it permitted all-cargo operations operating under part 121 to voluntarily opt into the part 117 flight, duty, and rest regulations.

After the final rule was published, the FAA discovered several issues requiring a technical correction in the regulatory text of the rule. These issues, and the corresponding technical corrections, are as follows.

Technical Corrections

1. Reporting a Flight Time Extension

Subsections 117.11(c)(2) and (d) contain requirements that are triggered if the certificate holder uses a flight-time extension for circumstances that are within the certificate holder's control. However, pursuant to § 117.11(b), a flight-time extension can only be taken for unforeseen operational circumstances that are “beyond the certificate holder's control.” Because a flight time extension cannot be taken for circumstances that are within the control of the certificate holder, the provisions of § 117.11(c)(2) and (d) are unnecessary and have been removed.

2. Applying § 117.19 Extensions to Short-Call Reserve Limits

The regulatory text of § 117.19 in the final rule permits extensions to flight duty periods but does not permit extensions to the short-call reserve limits specified in § 117.21(c)(3) and (4). Because these short-call-reserve limits were not intended to be more stringent than flight-duty-period limits, § 117.19 has been corrected to provide an extension for the short-call-reserve limits specified in § 117.21(c)(3) and (4).

3. Requirements for the 56-Hour Rest Period

The regulatory text of § 117.25(d) has been corrected to clarify that the rest requirements of that subsection are triggered if a flightcrew member: (1) Travels more than 60 degrees longitude during a flight duty period or series of flight duty periods; and (2) is away from home base for over 168 consecutive hours during this travel.

4. Applying § 117.29 Extensions to Short-Call Reserve Limits

Similar to the § 117.19 discussion above, § 117.29(b) also allows for an extension of flight-duty-period limits but does not allow for an extension of short-call-reserve limits. As such, § 117.29(b) has been corrected to allow short-call reserve to have the same extension as a flight duty period.

Accordingly, in the final rule, FR Doc. 2011-33078, published on January 4, 2012 (77 FR 330), make the following corrections:

§ 117.11 [Corrected]

1. On pages 399 and 400, in the third column on page 399 and the first column of page 400, in § 117.11, revise paragraph (c) and remove paragraph (d).

The revision reads as follows:

“(c) Each certificate holder must report to the Administrator within 10 days any flight time that exceeded the maximum flight time limits permitted by this section. The report must contain a description of the extended flight time limitation and the circumstances surrounding the need for the extension.

§ 117.19 [Corrected]

2. On page 400, in the second column, in § 117.19, paragraph (a)(1) is revised to read as follows:

“(1) The pilot in command and the certificate holder may extend the maximum flight duty period permitted in Tables B or C of this part up to 2 hours. The pilot in command and the certificate holder may also extend the maximum combined flight duty period and reserve availability period limits specified in § 117.21(c)(3) and (4) of this part up to 2 hours.”

§ 117.25 [Corrected]

3. On page 401, in the second column, in § 117.25, paragraph (d) is revised to read as follows:

“(d) A flightcrew member must be given a minimum of 56 consecutive hours rest upon return to home base if the flightcrew member: (1) Travels more than 60° longitude during a flight duty period or a series of flight duty period, and (2) is away from home base for more than 168 consecutive hours during this travel. The 56 hours of rest specified in this section must encompass three physiological nights' rest based on local time.”

§ 117.29 [Corrected]

4. On page 401, in the third column, in § 117.29, paragraph (b) is revised to read as follows:

“(b) The pilot-in-command may determine that the maximum applicable flight duty period, flight time, and/or combined flight duty period and reserve availability period limits must be exceeded to the extent necessary to allow the flightcrew to fly to the closest destination where they can safely be relieved from duty by another flightcrew or can receive the requisite amount of rest prior to commencing their next flight duty period.”

Issued in Washington, DC on January 31, 2013.
Mark W. Bury,
Acting Assistant Chief Counsel for International Law, Legislation, and Regulations Division, AGC-200.

[FR Doc. 2013-02504 Filed 2-5-13; 8:45 am]

BILLING CODE 4910-13-P